DEPARTMENT OF THE INTERIOR

Minerals Management Service (MMS)

Outer Continental Shelf Official Protraction Diagrams and Leasing Maps

AGENCY: Minerals Management Service, Interior.

ACTION: Availability of revised North American Datum of 1927 (NAD 27) Outer Continental Shelf Official Protraction Diagrams and Leasing Maps.

SUMMARY: Notice is hereby given that effective with this publication, the following NAD 27-based Outer Continental Shelf Official Protraction Diagrams and Leasing Maps last revised on the date indicated are available for information only, in the Gulf of Mexico OCS Regional Office, New Orleans, Louisiana. Copies are also available for download at http://www.mms.gov/ld/maps.htm. The Minerals Management Service in accordance with its authority and responsibility under Title 43, Code of Federal Regulations, is updating the basic record used for the description of mineral and oil and gas lease sales in the geographic areas they represent.

Outer Continental Shelf Official Protraction Diagrams in the Western and Central Gulf of Mexico Planning Areas

Description/Date

NG15-02 (Garden Banks)—February 28, 2007

NG15-05 (Keathley Canyon)—February 28, 2007

NG15-08 (Sigsbee Escarpment)—February 28, 2007

LA1A (West Cameron Area, West Addition)—February 28, 2007

LA1B (West Cameron Area, South Addition)—February 28, 2007

LA12 (Sabine Pass Area)—February 28, 2007

FOR FURTHER INFORMATION CONTACT: Copies of Official Protraction Diagrams (OPDs) and Leasing Maps are $2.00 each. These may be purchased from the Public Information Unit, Information Services Section, Gulf of Mexico OCS Region, Minerals Management Service, 1201 Elmwood Park Boulevard, New Orleans, Louisiana 70123-2394, Telephone (504)736-2519 or (800) 200-GULF.

SUPPLEMENTARY INFORMATION: Official Protraction Diagrams and Leasing Maps may be obtained in two digital formats: gra files for use in ARC/INFO and .pdf files for viewing and printing in Adobe Acrobat.

Dated: April 12, 2007.
Robert P. LaBelle,
Acting Associate Director for Offshore Minerals Management.

[FR Doc. E7-9344 Filed 5-15-07; 8:45 am]

BILLING CODE 4310-MR-P